DEPARTMENT OF DEFENSE

Department of the Navy

Notice of Intent To Prepare an Environmental Impact Statement for Basewide Water Infrastructure and Stuart Mesa Bridge Replacement Projects at Marine Corps Base Camp Pendleton, San Diego County, CA

AGENCY: Department of the Navy, DoD.

ACTION: Notice.

SUMMARY: In accordance with Section 102(2)(c) of the National Environmental Policy Act (NEPA)of 1969 (42 U.S.C. 4332 (2) (c)), as implemented by the Council on Environmental Quality Regulations (40 CFR Parts 1500-1508), the Department of the Navy intends to prepare an Environmental Impact Statement (EIS) and conduct a public scoping meeting for the proposed replacement of the Stuart Mesa Bridge and installation and operation of water infrastructure improvements throughout Marine Corps Base Camp Pendleton (MCBCP) in San Diego County, California.

DATES: The Department of the Navy will review all comments received during the 30-day public scoping period, which starts with the publication of this Notice of Intent. A public scoping meeting, using an informal open house format, will be held in the San Clemente Community Center, 100 North Calle Seville, San Clemente, California 92672, from 6 p.m. to 8 p.m. on April 16, 2010. The meeting will be announced by notices published in the North County Times and San Clemente Sun Post News. The public is invited to attend the meeting at their convenience during the meeting hours and can view project-related displays and speak with Department of the Navy and MCBCP representatives and resource staff. A court reporter will be available at the meeting to accept oral comments.

ADDRESSES: Written comments on the scope of the MCBCP Basewide Water Infrastructure and Stuart Mesa Bridge Replacement EIS should be directed to: Mr. Jesse Martinez, Naval Facilities Engineering Command (NAVFAC) Southwest, 1220 Pacific Highway, San Diego, California 92132. Written comments may also be submitted via fax at 619-532-4160, or e-mailed to jesse.w.martinez1@navy.mil.

FOR FURTHER INFORMATION CONTACT: Mr. Jesse Martinez, NAVFAC Southwest at telephone 619-532-3844, fax 619-532-4160, or e-mail: jesse.w.martinez1@navy.mil.

Purpose and Need: The proposed action is needed to modernize and expand the capacity and capability of MCBCP's aging (1940s/1950s era) potable water system and roadway infrastructure. Due to the existing potable water system infrastructure's lack of redundancy/backup and its continued deteriorating condition, portions of MCBCP have experienced more frequent interruptions to water delivery services. Wildfires have also damaged system components (e.g. power feeds, pump stations, pipes, etc.), with resulting service interruptions. As the potable water system continues to age, and as demand increases, the frequency of the interruptions will also increase, adversely affecting MCBCP's mission. Repairs to and maintenance actions for the system are becoming more frequent and more expensive.

In the case of the roadway system, the Stuart Mesa Bridge, together with nearby roadway segments and the adjacent intersection of Stuart Mesa Road and Vandegrift Boulevard, represents a critical roadway connection on the main internal north-south connector in the southern and western portions of MCBCP. The roadway link has been severed in the past by flooding, underscoring the need for an all-weather solution.

The purpose of the proposed action is to enhance the ability of MCBCP to efficiently meet its mission by developing new or upgraded, reliable, and compliant infrastructure systems necessary to sustain military training and operations and quality of life services on MCBCP. The purpose is to provide (1) secure and more effective use of water resources, improved potable water quality and capacity, treatment and delivery capabilities, and water system redundancy necessary to reliably and efficiently deliver potable water in the northern region of MCBCP; (2) improved delivery of Basewide water services during periods of scheduled, unscheduled, and emergency system interruption; and (3) roadway improvements necessary to maintain efficient all-weather traffic accessibility to key areas in the southern portion of MCBCP that are now severed during periodic flooding in the vicinity of the Stuart Mesa Bridge.

The water infrastructure projects were initially included in the November 12, 2008, Notice of Intent (NOI) for MCBCP's Basewide Utilities Infrastructure project (73 FR 66879). These two water infrastructure projects were removed from that EIS for potential re-design and to develop additional alternatives for analysis. These two water infrastructure projects are independent of the Basewide Utilities Infrastructure projects and meet different needs.

Preliminary Alternatives

The EIS will address the proposed alternative sites, alignments, and construction methods as described below.

Advanced Water Treatment (AWT) North and Associated Facilities (MILCON P-1044)

Four alternatives involving a combination of two AWT sites and two pipeline routes are being evaluated. All alternatives include construction of a 54,000-square-foot AWT facility, 80,000 linear feet (LF) of new and replacement water lines, pump stations with emergency generators, connection to existing reservoirs and distribution system, a brine disposal system, and plant access improvements. The proposed AWT facility would process up to 7.5 million gallons per day (mgd) and would include micro-filtration, granulated activated carbon, and reverse osmosis. The facility would be designed in modular form for ease of expandability; however there are no current plans for expansion.

Alternative 1. Under this alternative the AWT facility would be constructed at a location about 1500 feet south of Basilone Road (Site 6). Raw water, treated water, and brine would be conveyed via new proposed lines. Raw water lines would extend from the existing wells to the AWT facility. Treated water lines would extend from the AWT facility to the west to serve the San Onofre Housing Areas and the 51 Area (San Onofre); to the north to serve the 62 Area (San Mateo), 63 Area (Cristianitos), and 64 Area (Talega); and to the east along Basilone Road to serve the 52 Area (School of Infantry) and 53 Area (Horno). Potable water loops eight inches in diameter would be installed within each cantonment and housing area. Bicycle lanes and/or pedestrian trails could also be included over proposed water lines where feasible. Either horizontal directional drilling (HDD) to extend lines beneath San Onofre Creek and San Mateo Creek or suspension of the pipelines over the creeks would be incorporated to minimize impacts.

Following water treatment at the AWT, brine would be disposed via ocean outfall and/or injection wells. The brine disposal line would extend from the AWT facility to the south to connect to the proposed injection wells east of Interstate 5 (I-5) and/or to the existing Unit 1 ocean intake pipeline at San Onofre Nuclear Generating Station (SONGS). The line to SONGS would extend beneath I-5 via HDD. Brine disposal would make up approximately 8 to 10 percent of the capacity of the proposed AWT or a maximum volume of approximately 0.6 to 0.75 mgd. The ocean outfall disposal would use the existing SONGS former Unit 1, 12-foot-diameter, 3,200-foot-long cooling water intake structure located on the Pacific Ocean floor. Deep injection wells (approximately 1,000 feet deep) would be located south and east of the existing San Onofre percolation ponds.

Alternative 2. Under this alternative, raw water, treated water, and brine would be conveyed via three proposed new pipelines located primarily in El Camino Real instead of Basilone Road as proposed under Alternative 1.

Alternative 3. Under this alternative, the AWT facility would be located immediately south of Basilone Road (Site 4). Water conveyance pipelines would be the same as Alternative 1.

Alternative 4. Under this alternative, the AWT facility would be located immediately south of Basilone Road (Site 4). Water conveyance pipelines would be the same as Alternative 2.

Connection of North and South Water Systems (MILCON P-1045)

Four alternatives involving different pipeline routes are being evaluated.

Alternative 1. Under this alternative, approximately 90,000 LF of potable water lines sized up to 36 inches in diameter to connect the northern and southern water systems of MCBCP. The water line would start at the new AWT North facility (P-1044) and extend south on an alignment using El Camino Real to Stuart Mesa Road. Dividing at the junction of Stuart Mesa Road and Las Pulgas Road, one branch would run north along Las Pulgas Road to the 43 Area (Las Pulgas). This lateral pipeline would be approximately 10 to 14 inches in diameter and would connect to the Las Pulgas distribution system to link developments in the Las Pulgas, Las Flores, and Stuart Mesa areas to the connected northern and southern water systems. The other branch would continue along Stuart Mesa Road before splitting again into two more branches. One of these branches would extend northeast on the west side of the Santa Margarita River along North River Road, passing east of the 32 Area (Marine Air Control Squadron-1) and 33 Area (Margarita) and west of the 23 Area (Marine Corps Air Station Camp Pendleton) to Basilone Road and on to connect to the AWT South facility at Haybarn Canyon as well as several reservoirs along a ridge above the AWT South (Reservoirs 13151, 13154, 24140, 24174, and 240173). The second branch would continue south along Stuart Mesa Road, passing under or suspending over the Santa Margarita River, to Vandegrift Boulevard before turning north and terminating approximately one mile north at an existing Vandegrift Boulevard/Magazine Road pump station and several nearby reservoirs (Reservoirs 20813, 20814, 20815, 200814, and 200815).

The pipelines would be HDD under or suspended over San Onofre Creek, Las Flores Creek, Aliso Canyon drainage, French Creek, and two locations on the Santa Margarita River to avoid impacts to these areas.

The project would also include the construction and operation of three pump stations along the alignment. One pump station would be located within the footprint of the AWT North and a second pump station would be located within a developed parking lot at the AWT South. A third pump station would be located in an existing parking area on the southwest side of the intersection of El Camino Real and Las Pulgas Road. Bicycle lanes and/or pedestrian trails could also be included over proposed water lines where feasible.

Alternative 2. The proposed north-south pipeline would start at the new AWT North facility (P-1044) and extend south in El Camino Real to Las Pulgas Road and run north in Las Pulgas Road to Basilone Road. The water line would then extend along Basilone Road to Vandegrift Boulevard and run east to connect to the AWT South at Haybarn Canyon as well as several reservoirs along a ridge above the AWT South (Reservoirs 13151, 13154, 24140, 24174, and 240173). This alternative would require two additional pump stations, for a total of five pump stations.

Alternative 3. This alternative would be similar to Alternative 1 except it would not include the segment on the west side of the Santa Margarita River along North River Road and could include a 1.0 mile line connecting to reservoir 32911 at 32 Area (Marine Air Control Squadron-1).

Alternative 4. This alternative would be similar in alignment to Alternative 3, with an additional pipe segment from the Vandegrift Boulevard/Magazine Road pump station east of the 22 Area (Chappo) before connecting to the AWT South at Haybarn Canyon as well as several reservoirs along a ridge above the AWT South (Reservoirs 13151, 13154, 24140, 24174, and 240173).

Stuart Mesa Bridge Replacement and Flood Control Improvements (P-0139)

Four alternatives including a combination of two flood control methods and the use of a temporary bridge during construction are being evaluated. All alternatives include demolition of the existing Stuart Mesa Bridge and construction of a new four lane bridge and flood protection measures.

Alternative 1. Construction would consist of a new cast-in-place prestressed concrete bridge (approximately 1,200 feet long by 56 feet wide) with pile foundations, new approach road and bridge abutments, earthwork and grading, rock protection and revetment, bridge deck, guard rails, night lighting, asphalt pavement, and pavement marking and signs.

The project includes “100-year storm” flood protection control measures to protect Stuart Mesa Road and Vandegrift Boulevard. They consist of levees; toe scour protection along the levee; a storm water drain system consisting of culverts, inlets, outlets, headwalls, channels, and earth and concrete ditches. Supporting activities would include the construction and relocation of utilities (electrical, communications/information lines, water main) during the demolition and construction of the new bridge. Under this alternative, no temporary replacement bridge would be constructed over the Santa Margarita River and traffic would need to utilize alternate routes during this time.

Alternative 2. Under this alternative, a temporary use bridge would be constructed to allow vehicular traffic along Stuart Mesa Road to continue to cross the Santa Margarita River. Bridge construction would be the same as Alternative 1.

Alternative 3. Under this alternative, flood walls would be constructed rather than levees. No temporary replacement bridge would be constructed over the Santa Margarita River. Bridge construction would be the same as Alternative 1.

Alternative 4. This alternative would be similar to Alternative 3, with the exception of a construction phase temporary use bridge, which would allow traffic along Stuart Mesa Road to continue to cross the Santa Margarita River during demolition of the existing bridge and construction of the new bridge.

Environmental Issues and Resources To Be Examined

The EIS will evaluate the potential environmental effects associated with each of the alternatives. Issues to be addressed include, but are not limited to; geology, topography and soils, hydrology and water quality, biological resources, cultural resources, land use, visual resources, socioeconomics and environmental justice, traffic, air quality, noise, public health and safety, services and utilities, and coastal zone management. Relevant and reasonable measures that could alleviate environmental effects will be considered.

Schedule

Comments on the scope of this EIS must be received by April 30, 2010. The Department of the Navy will publish a Notice of Availability (NOA) in the Federal Register and local media when the Draft EIS is issued for public review. A 45-day public comment period will start upon publication of the NOA in the Federal Register. The Department of the Navy will consider and respond to all comments received on the Draft EIS when preparing the Final EIS. The Department of the Navy expects to issue the Final EIS in July 2011, which will be available for a 30-day public comment period. The Department of the Navy will consider all comments received on the Final EIS in preparing for the Record of Decision.

Other Agency Involvement

The Department of the Navy will undertake appropriate consultations with regulatory entities pursuant to the Endangered Species Act, Clean Water Act, National Historic Preservation Act, and any other applicable law or regulation. Consultation will include but is not limited to the following Federal, State, and local agencies: U.S. Fish and Wildlife Service; National Oceanic and Atmospheric Administration Fisheries; State Historic Preservation Officer; American Indian Tribes; U.S. Army Corps of Engineers; U.S. Environmental Protection Agency; all local Historic Site Boards and Heritage organizations; California Regional Water Quality Control Board; California Coastal Commission; San Diego Air Pollution Control District; and the County of San Diego, Department of Environmental Health.

Dated: March 25, 2010.
A.M. Vallandingham,
Lieutenant Commander, Judge Advocate Generals Corps, U.S. Navy, Federal Register Liaison Officer.

[FR Doc. 2010-7183 Filed 3-30-10; 8:45 am]

BILLING CODE 3810-FF-P